DEPARTMENT OF ENERGY

[Case No. CAC-015]

Energy Conservation Program for Consumer Products: Notice of Modification of Petition for Waiver and Interim Waiver of Mitsubishi Electric From the Department of Energy Commercial Package Water-Source Heat Pump Test Procedure, and Modification of Interim Waiver

AGENCY: Office of Energy Efficiency and Renewable Energy, Department of Energy.

ACTION: Notice of modification of interim waiver; request for comments.

SUMMARY: Today's notice announces receipt of and publishes a revised list of model numbers for which Mitsubishi Electric & Electronics USA, Inc. (“Mitsubishi”) received an interim waiver of the test procedures applicable to commercial package water-source heat pumps. In addition, Mitsubishi has proposed that the definition of “tested combination,” used in the alternate test procedure, be refined based upon the AHRI Draft Standard 1230. Through this document, DOE is soliciting comments with respect to the Mitsubishi Petition.

DATES: DOE will accept comments, data, and information with respect to the Mitsubishi Petition until, but no later than August 20, 2009.

ADDRESSES: You may submit comments, identified by case number “CAC-015,” by any of the following methods:

• Federal eRulemaking Portal: http://www.regulations.gov. Follow the instructions for submitting comments.

• E-mail: AS_Waiver_Requests@ee.doe.gov. Include either the case number [CAC-015], and/or “Mitsubishi Petition” in the subject line of the message.

• Mail: Ms. Brenda Edwards, U.S. Department of Energy, Building Technologies Program, Mailstop EE-2J/1000 Independence Avenue, SW., Washington, DC 20585-0121. Telephone: (202) 586-2945. Please submit one signed original paper copy.

• Hand Delivery/Courier: Ms. Brenda Edwards, U.S. Department of Energy, Building Technologies Program, 950 L'Enfant Plaza SW., Suite 600, Washington, DC 20024. Please submit one signed original paper copy.

Instructions: All submissions received must include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

Any person submitting written comments must also send a copy of such comments to the petitioner, pursuant to 10 CFR 431.401(d). The contact information for the petitioner is: Mr. William Rau, Senior Vice President and General Manager, HVAC Advanced Products Division, Mitsubishi Electric & Electronics USA, Inc., 4300 Lawrenceville-Suwanee Road, Suwanee, GA 30024.

According to 10 CFR 1004.11, any person submitting information that he or she believes to be confidential and exempt by law from public disclosure should submit two copies to DOE: one copy of the document including all the information believed to be confidential, and one copy of the document with the information believed to be confidential deleted. DOE will make its own determination about the confidential status of the information and treat it according to its determination.

Docket: For access to the docket to review the background documents relevant to this matter, you may visit the U.S. Department of Energy, 950 L'Enfant Plaza SW., (Resource Room of the Building Technologies Program), Washington, DC 20024; (202) 586-2945, between 9 a.m. and 4 p.m., Monday through Friday, except Federal holidays. Available documents include the following items: (1) This notice; (2) public comments received; (3) the Petition for Waiver and Application for Interim Waiver; and (4) prior DOE rulemakings regarding similar central air conditioning and heat pump equipment. Please call Ms. Brenda Edwards at the above telephone number for additional information regarding visiting the Resource Room.

FOR FURTHER INFORMATION CONTACT: Dr. Michael G. Raymond, U.S. Department of Energy, Building Technologies Program, Mail Stop EE-2J, Forrestal Building, 1000 Independence Avenue, SW., Washington, DC 20585-0121. Telephone: (202) 586-9611. E-mail: Michael.Raymond@ee.doe.gov.

Ms. Francine Pinto or Mr. Michael Kido, U.S. Department of Energy, Office of the General Counsel, Mail Stop GC-72, Forrestal Building, 1000 Independence Avenue, SW., Washington, DC 20585-0103. Telephone: (202) 586-9507. E-mail: Francine.Pinto@hq.doe.gov or Michael.Kido@hq.doe.gov.

SUPPLEMENTARY INFORMATION:

I. Background

II. Modified Petition for Waiver of Test Procedure and Application for Interim Waiver

III. Alternate Test Procedure

IV. Discussion

I. Background

On October 30, 2006, Mitsubishi submitted a Petition for Waiver and an Application for Interim Waiver from the test procedures applicable to its water-source WR2 and WY series models from its CITY MULTI VRFZ line of commercial package heat pump equipment. On April 9, 2007, DOE published Mitsubishi's Petition for Waiver for commercial package water-source heat pumps in the Federal Register. 72 FR 17533 (April 9, 2007). In the April 9, 2007 notice, DOE granted Mitsubishi's Application for Interim Waiver.

II. Modified Petition for Waiver of Test Procedure and Application for Interim Waiver

On July 30, 2008, Mitsubishi informed DOE that after it filed its Petition for Waiver in October 2006, it developed additional basic models in the WR2 and WY product line. These products are similar to the basic models listed in Mitsubishi's Petition for Waiver except that they have different capacities (the capacities of these new models fall within the applicable range of capacities for the ISO 13256-1 (1998) test procedure). The new outdoor models also have the additional ability to connect multiple outdoor units together to create larger capacity systems.

Therefore, Mitsubishi requested that DOE include these additional models in the list of basic models for which the interim waiver was granted. In addition, Mitsubishi requested that DOE include these additional basic models in the list of models contained in the Petition for Waiver. These additional products have the ability to connect multiple outdoor units together to create larger capacity systems, up to 240,000 Btu/hr. Connecting two of the smallest capacity (72,000 Btu/h) outdoor units results in a system capacity of 144,000 Btu/h, which is above the maximum 135,000 Btu/h covered by the DOE test procedure. The multiple-outdoor-unit feature is therefore not relevant to this waiver because the resulting system capacities are outside the capacity range of the DOE test procedure for water-source central air conditioners and central air conditioning heat pumps. This waiver only covers systems with nominal cooling capacities less than 135,000 Btu/hr, which does not include any combined units.

Mitsubishi's modified list of products for which a waiver is requested, and for which a waiver can be granted, follows:

CITY MULTI Variable Refrigerant Flow Zoning System Outdoor Equipment:

WY-Series (PQHY) 208/230-3-60 and 460-3-60 split-system, water-sourced, variable-speed heat pumps with individual model nominal cooling capacities of 72,000, 96,000, 108,000 and 120,000 Btu/h.

WR2-Series (PQRY) 208/230-3-60 and 460-3-60 split-system, water-sourced, variable-speed heat pumps with heat recovery and with individual model nominal cooling capacities of 72,000, 96,000, 108,000 and 120,000 Btu/h.

CITY MULTI Variable Refrigerant Flow Zoning System Indoor Equipment:

P*FY models, ranging from 6,000 to 48,000 Btu/h, 208/230-1-60 and from 72,000 to 120,000 Btu/h, 208/230-3-60 split system variable-capacity air conditioner or heat pump.

PCFY Series—Ceiling Suspended—with capacities of 12/18/24/30/36 MBtu/h.

PDFY Series—Ceiling Concealed Ducted—with capacities of 06/08/12/15/18/24/27/30/36/48 MBtu/h.

PEFY Series—Ceiling Concealed Ducted (Low Profile)—with capacities of 06/08/12/18/24 MBtu/h.

PEFY Series—Ceiling Concealed Ducted (Alternate High Static Option)—with capacities of 15/18/24/27/30/36/48/54/72/96 MBtu/h.

PEFY-F Series—Ceiling Concealed Ducted (100% OA Option)—with capacities of 30/54/72/96/120 MBtu/h.

PFFY Series—Floor Standing (Concealed)—with capacities of 06/08/12/15/18/24 MBtu/h.

PFFY Series—Floor Standing (Exposed)—with capacities of 06/08/12/15/18/24 MBtu/h.

PKFY Series—Wall-Mounted—with capacities of 06/08/12/18/24/30 MBtu/h.

PLFY Series—4-Way Airflow Ceiling Cassette—with capacities of 12/18/24/30/36 MBtu/h.

PMFY Series—1-Way Airflow Ceiling Cassette—with capacities of 06/08/12/15 MBtu/h.

III. Alternate Test Procedure

Mitsubishi's July 30, 2008 petition to extend its Interim Waiver also contains a modification to the alternate test procedure published April 9, 2007. 72 FR 17533. It contains a proposed, new definition of the term “tested combination.” This proposed definition is the same as the one in Draft AHRI 1230, “Performance Rating of Variable Refrigerant Flow (VRF) Multi-Split Air-Conditioning and Heat Pump.” This definition allows for systems with multiple outdoor units and has other differences for systems with nominal cooling capacities greater than 150,000 Btu/h. However, for the waiver under consideration here, which does not apply to systems with multiple outdoor units, nor to systems with cooling capacities greater than 135,000 Btu/h, the only change in the definition of “tested combination” that is relevant is its reference to “capacity” is changed to “nominal cooling capacity.” This does not substantially alter the original definition, but only clarifies it.

IV. Discussion

The Department has reviewed Mitsubishi's Initial Petition and its request to revise the list of model numbers for which Mitsubishi requested the waiver and interim waiver. The modified model list does not reflect any changes to the models listed in Mitsubishi's Initial Petition with respect to the properties making them eligible for a waiver, which involved testing difficulties. Given that the modified list does not change in any way the basis for granting the interim waiver, DOE finds that it is appropriate that the interim waiver granted on April 9, 2007, apply to the models listed in the Modified Petition. DOE thus clarifies that the April 9, 2007, interim waiver applies to the models listed in the Modified Petition, and that DOE will use the modified list of model numbers in any future action on the pending Petition for Test Procedure Waiver.

Issued in Washington, DC, on July 9, 2009.
Cathy Zoi,
Assistant Secretary, Energy Efficiency and Renewable Energy.

[FR Doc. E9-17287 Filed 7-20-09; 8:45 am]

BILLING CODE 6450-01-P